DEPARTMENT OF TRANSPORTATION

Bureau of Transportation Statistics

Reports, Forms and Recordkeeping Requirements Agency Information Collection Activity Under OMB Review

AGENCY: Bureau of Transportation Statistics, DOT.

ACTION: Notice.

SUMMARY: In compliance with the Paperwork Reduction Act of 1995 (44 U.S.C. 3501 et seq.), this notice announces that the Information Collection Request abstracted below has been forwarded to the Office of Management and Budget for extension of currently approved collections. The ICR describes the nature of the information collection and its expected burden. The Federal Register Notice with a 60-day comment period soliciting comments on the following collection of information was published on January 5, 2000 (65 FR pages 552-553).

DATES: Comments must be submitted on or before June 5, 2000.

FOR FURTHER INFORMATION CONTACT: Bernie Stankus, (202) 366-4387, DOT, Office of Airline Information, Room 4125, K-25, 400 Seventh Street, NW., Washington, DC 20590-0001.

SUPPLEMENTARY INFORMATION:

Bureau of Transportation Statistics

Title: Part 249 Preservation of Records.

Type of Request: Extension of a currently approved Collection.

OMB Control Number: 2138-0006.

Form(s): None.

Affected Public: Certificated air carriers, public charter operators and overseas military personnel charter operators.

Abstract: Part 249 applies to all carriers holding certificates of public convenience and necessity, public charter operators, and overseas military personnel charter operators. This part requires the retention of such records as general and subsidiary ledgers, journals and journal vouchers, voucher distribution registers, accounts receivable and payable journals and ledgers, subsidy records documenting underlying financial and statistical reports to the Department, funds reports, consumer records, sales reports, auditors' and flight coupons, air waybills, etc. Depending on the nature of the document, it may be retained for a period of 30 days to 3 years. Public charter operators and overseas military personnel charter operators must retain documents which evidence or reflect deposits made by each charter participant and commissions received by, paid to, or deducted by travel agents, and all statements, invoices, bills and receipts from suppliers or furnishers of goods and services in connection with the tour or charter. These records are retained for 6 months after completion of the charter program.

Estimated Annual Burden Hours: 710.

ADDRESSES: Send comments to the Office of Information and Regulatory Affairs, Office of Management and Budget, 725-17th Street, NW., Washington, DC 20503, Attention BTS Desk Officer.

Comments are Invited on: whether the proposed record retention requirements are necessary for the proper performance of the functions of the Department, including whether the record retention requirements practical utility; the accuracy of the Department's estimate of the burden of the proposed record retention; ways to enhance the quality, utility and clarity of the requirements; and ways to minimize the burden of the requirements on respondents, including the use other forms of information technology. A comment to OMB is most effective if OMB receives it within 30 days of publication.

Issued in Washington, DC, on May 1, 2000.
Donald W. Bright,
Acting Director, Office of Airline Information, Bureau of Transportation Statistics.

[FR Doc. 00-11252 Filed 5-4-00; 8:45 am]

BILLING CODE 4910-FE-P